DEPARTMENT OF THE INTERIOR

National Park Service

[NPS-WASO-NAGPRA-13891; PPWOCRADN0-PCU00RP14.R50000]

Notice of Inventory Completion: Logan Museum of Anthropology, Beloit College, Beloit, WI

AGENCY: National Park Service, Interior.

ACTION: Notice.

SUMMARY: The Logan Museum of Anthropology, Beloit College, has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Logan Museum of Anthropology, Beloit College. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Logan Museum of Anthropology, Beloit College, at the address in this notice by October 15, 2013.

ADDRESSES: William Green, Director, Logan Museum of Anthropology, Beloit College, Beloit, WI 53511, telephone (608) 363-2119, email greenb@beloit.edu.

SUPPLEMENTARY INFORMATION: Notice is here given in accordance with the Native American Graves Protection and Repatriation Act (NAGPRA), 25 U.S.C. 3003, of the completion of an inventory of human remains and associated funerary objects under the control of the Logan Museum of Anthropology, Beloit College, Beloit, WI. The human remains and associated funerary objects were removed from Saline County, AR.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

Consultation

A detailed assessment of the human remains and associated funerary objects was made by the Logan Museum of Anthropology, Beloit College, professional staff in consultation with representatives of the Caddo Nation of Oklahoma.

History and Description of the Remains

In 1931, human remains representing, at minimum, one individual were removed from a mound near Benton, AR, by Paul H. Nesbitt, curator of anthropology at the Logan Museum of Anthropology, Beloit College, and Frank Ellis, owner of the Ellis Museum of Archaeology and Anthropology, Maquoketa, IA. The mound was situated near the Saline River, but the precise site location is unknown. Museum records state that Nesbitt and Ellis were “studying the mound groups” of the Benton vicinity, and the two men excavated one burial, made surface collections at several locations, and obtained material from another collector. According to museum records, “[m]ost of the material was found on Mr. Ellis's land along the Saline River” near Benton, AR. After removal, the human remains and associated funerary objects were accessioned into the Logan Museum's collection. The human remains are those of an adult male. No known individuals were identified. The 83 associated funerary objects are 1 ceramic bowl, 1 ceramic tripod bottle, 1 broken ceramic jar, 2 chipped-stone picks or chisels, 1 ground and scored rectangular stone object, 2 ground stone knives, 33 bivalve shells, 30 ceramic sherds, 10 mammal elements, 1 turtle shell fragment, and fragments of charcoal.

The human remains are Native American based on the method of interment, associated funerary objects, and physical characteristics. The ceramic bowl is a shell-tempered, carinated vessel that is a two-panel example of Friendship Engraved var. Freeman. Its form, more common in the Ouachita River drainage than along the Saline River, is diagnostic of the Mid-Ouachita phase, dating to A.D. 1400-1500. Because the bowl is shell-tempered, it was probably made late in that period. The tripod bottle has a composite design, and Arkansas Archeological Survey archaeologist Mary Beth Trubitt observed that “the ovals and crosshatched design on the body are typically found on Friendship Engraved carinated bowls,” while “the horizontal line with pendant crosshatched triangles around the bottle neck is often seen around rims of bowls (Hempstead Engraved bowls that are usually grog-tempered, or Hardman Engraved bowls that are usually shell-tempered).” This evidence points to an estimated date for the bottle in the late 1400s.

The bowl and the tripod bottle, both of which feature nearly identical designs, exhibit well-documented Late Caddo styles. The Benton, AR, area is in the northeastern portion of the traditional homeland of the Caddo Nation of Oklahoma. Significant Caddo archaeological sites such as Hughes Mound are located near Benton, AR. Archaeological and ethno-historical evidence indicates a relationship of shared group identity between the present-day Caddo Nation of Oklahoma and late prehistoric Caddo groups.

Determinations Made by the Logan Museum of Anthropology, Beloit College

Officials of the Logan Museum of Anthropology, Beloit College have determined that:

• Pursuant to 25 U.S.C. 3001(9), the human remains described in this notice represent the physical remains of one individual of Native American ancestry.

• Pursuant to 25 U.S.C. 3001(3)(A), the 83 objects described in this notice are reasonably believed to have been placed with or near individual human remains at the time of death or later as part of the death rite or ceremony.

• Pursuant to 25 U.S.C. 3001(2), there is a relationship of shared group identity that can be reasonably traced between the Native American human remains and associated funerary objects and the Caddo Nation of Oklahoma.

Additional Requestors and Disposition

Lineal descendants or representatives of any Indian tribe or Native Hawaiian organization not identified in this notice that wish to request transfer of control of these human remains and associated funerary objects should submit a written request with information in support of the request to William Green, Director, Logan Museum of Anthropology, Beloit College, Beloit, WI 53511, telephone (608) 363-2119, email greenb@beloit.edu, by October 15, 2013. After that date, if no additional requestors have come forward, transfer of control of the human remains and associated funerary objects to the Caddo Nation of Oklahoma may proceed.

The Logan Museum of Anthropology, Beloit College, is responsible for notifying the Caddo Nation of Oklahoma that this notice has been published.

Dated: August 21, 2013.
Sherry Hutt,
Manager, National NAGPRA Program.

[FR Doc. 2013-22249 Filed 9-12-13; 8:45 am]

BILLING CODE 4312-50-P